DEPARTMENT OF JUSTICE

Notice of Lodging of Consent Decree Under the Comprehensive Environmental Response, Compensation, and Liability Act

Notice is hereby given that on September 24, 2007, a proposed Consent Decree in United States of America v. Great Lakes Carbon LLC,Civil Action No. 3:07-cv-476, (``U.S. v. GLC'') was lodged with the United States District Court for the Southern District of Texas. The civil action U.S. v. GLC is related to consolidated actions Amoco Chemical Co. v. United States of America, Civil Action No. G-96-272 (S.D. Tx.), (``the Amoco lawsuit'') and Tex Tin Corp. v. United States of America, Civil Action No. G-96-247 (S.D. Tx.), (``the Tex Tin Lawsuit'').

The proposed Consent Decree relates to the Tex Tin Superfund Site located in Texas City, Galveston County, Texas (``the Site'') at the corner of Farm to Market Road 519 and State Highway 146. Metal smelting operations, principally for production of tin but also including other metal smelting and other production operations, occurred at the Site intermittently from approximately 1941 until 1991. Implementation of the remedy selected by EPA for the Site is now complete.

In May 1996, Amoco Chemical Co. (now known as BP Amoco Chemical Company and hereinafter referred to as ``BP ACC'') filed the Amoco lawsuit pursuant to Sections 107 and 113 of CERCLA, 42 U.S.C. 9607 and 9613, for recovery of and contribution for CERCLA response costs.

In October 2003, the Tex Tin Settling Defendants Steering Committee filed in the Tex Tin lawsuit a First Amended Third Party Complaint pursuant to Sections 107 and 113 of CERCLA, 42 U.S.C. 9607 and 9613, for recovery of response costs against seven parties including Great Lakes Carbon Corp. and Phelps Dodge Corp. In 2003, Great Lakes Carbon Corporation converted to a Delaware Limited Liability Company and changed its name to Great Lakes Carbon LLC.

On September 24, 2007, the United States filed a Complaint in U.S. v. GLC against Great Lakes Carbon LLC and Phelps Dodge Corp. (collectively ``Settling Defendants'') pursuant to Section 107 of CERCLA, 42 U.S.C. 9607, seeking reimbursement of response costs incurred or to be incurred for response actions taken or to be taken at or in connection with the release or threatened release of hazardous substances at the Site.

Under the proposed Consent Decree, Great Lakes Carbon LLC will pay to the United States $150,000 and to the Tex Tin Settling Defendants Steering Committee and BP ACC $100,000 and Phelps Dodge Corp. will pay to the United States $93,000 and to the Tex Tin Settling Defendants Steering Committee and BP ACC $62,000. In the proposed Consent Decree, the United States covenants not to sue Settling Defendants under CERCLA Sections 106 and 107, 42 U.S.C. 9606 and 9607, in connection with the Site. CERCLA Section 113(f)(2), 42 U.S.C. 9613(f)(2), provides that contribution protection arises for matters addressed in the proposed Consent Decree. The proposed Consent Decree defines the “matters addressed” as “all response actions taken or to be taken and all response costs incurred or to be incurred, at or in connection with the Site, by the United States or any other person.” Also in the proposed Consent Decree, the Tex Tin Settling Defendants Steering Committee and BP ACC covenant not to sue and agree not to assert any claims or causes of action against Settling Defendants (1) with regard to the Site pursuant to Sections 107 and 113 of CERCLA, 42 U.S.C. 9607 and 9613; and (2) with regard to any claim arising out of response activities at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Great Lakes Carbon LLC, D.J. Ref. 90-11-3-1669/4.

The Consent Decree may be examined at the Office of the United States Attorney, Southern District of Texas, 919 Milam, Suite 1500, Houston, TX 77002, and at U.S. EPA Region 6, 1445 Ross Avenue, Dallas, Texas 75202. During the public comment period, the Consent Decree, may also be examined on the following Department of Justice Web site, http://www.usdoj.gov/enrd/Consent_Decrees.html. A copy of the Consent Decree may also be obtained my mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy by mail, from the Consent Decree Library, please enclose a check in the amount of $7.50 (25 cents per page reproduction cost) payable to the U.S. Treasury.

Thomas A. Mariani, Jr.,
Assistant Chief, Environmental Enforcement Section, Environmental and Natural Resources Division.

[FR Doc. 07-5025 Filed 10-11-07; 8:45 am]

BILLING CODE 4410-15-M